DEPARTMENT OF COMMERCE

International Trade Administration

University of Washington; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5 P.M. in Room 4211, U.S. Department of Commerce, 14th and Constitution Avenue, NW., Washington, DC.

Docket Number: 00-016. Applicant: University of Washington, Seattle, WA 98195-1560. Instrument: Scanning Tunneling Microscope. Manufacturer: Omicron Associates, Germany. Intended Use: See notice at 65 FR 47404, August 2, 2000.

Comments: None received. Decision: Approved. No instrument of equivalent scientific value to the foreign instrument, for such purposes as it is intended to be used, is being manufactured in the United States. Reasons: The foreign instrument provides: (1) A scanning tunneling microscope with atomic resolution over a range of 50-1000K, (2) continuous heating of silicon samples to 1500K, (3) scanning force and tunneling microscopes with a scan of 10 μm × 10 μm area over a range of 10mm and (4) operation under ultra-high vacuum (< 1×10⁻¹⁰ Torr). The Center for Advanced Microstructure Devices and the National Institute of Standards and Technology advise that (1) these capabilities are pertinent to the applicant's intended purpose and (2) they know of no domestic instrument or apparatus of equivalent scientific value to the foreign instrument for the applicant's intended use (comparable case).

We know of no other instrument or apparatus of equivalent scientific value to the foreign instrument which is being manufactured in the United States.

Gerald A. Zerdy,
Program Manager, Statutory Import Programs Staff.

[FR Doc. 00-23126 Filed 9-7-00; 8:45 am]

BILLING CODE 3510-DS-P